DEPARTMENT OF TRANSPORTATION

Federal Aviation Administration

14 CFR Part 71

[Docket No. FAA-2020-0988; Airspace Docket No. 18-AWA-3]

Proposed Amendment of Class C Airspace and Revocation of Class E Airspace Extension; Fort Lauderdale, FL

AGENCY: Federal Aviation Administration (FAA), DOT.

ACTION: Notice of proposed rulemaking (NPRM).

SUMMARY: This action proposes to reconfigure and expand the Fort Lauderdale-Hollywood International Airport, FL (FLL), Class C airspace area. The FAA is proposing this action to reduce the risk of midair collisions and enhance the efficient management of air traffic operations in the FLL terminal area. Additionally, this action proposes to revoke the Class E airspace extension to the FLL Class C airspace surface area. This proposed action is separate and distinct from the South Florida Metroplex Project. No flight path changes are associated with this proposal.

DATES: Comments must be received on or before June 1, 2021.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2020-0988; Airspace Docket No. 18-AWA-3, at the beginning of your comments. You may also submit comments through the internet at https://www.regulations.gov.

FAA Order 7400.11E, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11E at NARA, email: fedreg.legal@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the airspace structure as necessary to preserve the safe and efficient flow of air traffic within the National Airspace System (NAS).

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2020-0988; Airspace Docket No. 18-AWA-3) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2020-0988; Airspace Docket No. 18-AWA-3.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5.00 p.m., Monday through Friday, except federal holidays. An informal docket may also be examined during normal business hours at the office of the Eastern Service Center, Federal Aviation Administration, Room 210, 1701 Columbia Ave., College Park, GA 30337.

Availability and Summary of Documents for Incorporation by Reference

This document proposes to amend FAA Order 7400.11E, Airspace Designations and Reporting Points, dated July 21, 2020, and effective September 15, 2020. FAA Order 7400.11E is publicly available as listed in the ADDRESSES section of this document. FAA Order 7400.11E lists Class A, B, C, D, and E airspace areas, air traffic service routes, and reporting points.

Background

In 1986, the FAA issued a final rule that established the Fort Lauderdale-Hollywood International Airport, FL, Airport Radar Service Area (ARSA) (51 FR 4872; February 7, 1986). As a result of the Airspace Reclassification final rule (56 FR 65638; December 17, 1991), which became effective in September 1993, the term “Airport Radar Service Area” was replaced by “Class C airspace area.” As with the former ARSA, the primary purpose of a Class C airspace area is to reduce the potential for midair collisions in terminal areas and promote the efficient management of air traffic in those areas. Pilots are required to establish two-way radio communications with air traffic control (ATC) before entering Class C airspace, and they must maintain two-way radio communications with ATC while operating in Class C airspace. These requirements are designed to keep ATC informed of all aircraft operating within the Class C airspace area.

Developments Since the Origination of the FLL Class C Airspace Area

Despite significant increases in aircraft operations and passenger enplanements at FLL over the years, the FLL Class C airspace area has not been modified since its inception in 1986.

In 2014, runway 10R/28L was extended from 5,276 feet to 8,000 feet in length. The extension increased airport capacity by making two runways available to larger aircraft types instead of one.

In 2008, FLL hosted 309,624 total operations, and 11,400,548 passenger enplanements. By 2019, these numbers had grown to 331,455 total operations, and 17,950,989 passenger enplanements. With these figures, FLL actually meets the criteria to be a candidate for the establishment of a Class B airspace area. In 2009, the FAA considered converting the FLL Class C airspace area to Class B airspace. However, as discussed later in this NPRM, the FAA decided that the airspace safety and efficiency goals could be satisfied by expanding the FLL Class C airspace area instead.

Impact of FLL Class C Airspace Area Configuration on Operations

The current FLL Class C airspace area is not sufficient to accommodate the volume and diversity of aircraft operations in the congested South Florida airspace, nor the traffic patterns required by the increasing numbers of turbojet operations at FLL.

The current FLL Class C airspace configuration has the following impacts on operations at FLL:

1. Insufficient Class C airspace is available to provide for the most efficient arrival and departure operations at FLL. Significant numbers of visual flight rules (VFR) aircraft, which are not in contact with air traffic control (ATC), routinely operate in the same airspace outside of the FLL Class C area that is also used by aircraft operating to and from FLL. Under the proposal, these VFR aircraft would be required to establish contact with ATC enabling greater efficiency.

2. Controllers must alter the approach profile of instrument flight rules (IFR) arrival traffic when unknown VFR aircraft are transitioning a gap between the existing Miami (MIA) Class B and FLL Class C airspace areas. This gap, which is approximately 4-5 nautical miles (NM) wide, exists in the airspace between the current 10 NM radius of the FLL Class C airspace (to the west of FLL), and the existing MIA Class B airspace area to the northwest of MIA (in the vicinity of U.S. Route 27). VFR aircraft that are not in communication with ATC routinely transit this area and, in doing so, they climb or descend through the final approach courses and the downwind legs for FLL arrivals to runways 10L and 10R requiring commercial pilots to alter their flight path or altitude resulting in a disruption of the orderly flow of arrivals to the airport. Closing this airspace gap would enhance safety for FLL traffic.

3. Increases workload for air traffic controllers due to the need for additional vectoring of FLL arrivals and departures to ensure separation from VFR aircraft not in communication with ATC.

Benefits of Modifying the FLL Class C Airspace Area

Modifications of the current FLL Class C airspace area would enhance safety by lessening the likelihood of FLL arrivals and departures encountering unknown aircraft that are not in contact with ATC. The unique combination of high volumes of general aviation and commercial operations, plus intensive student pilot training, and transiting VFR aircraft that take place in the congested FLL terminal area support a proposal to expand the FLL Class C airspace area in the interest of safety and the efficient use of the airspace.

The FAA believes that users would benefit from participation in the proposed expanded availability of Class C services around FLL which include: sequencing of all aircraft to the primary airport (FLL); standard IFR services to IFR aircraft; separation, traffic advisories, and safety alerts between IFR and VFR aircraft; and, mandatory traffic advisories and safety alerts between VFR aircraft.

Local Area Airport Identifiers

For reference, the following airport identifiers are used in this NPRM:

BCT Boca Raton Airport

FLL Fort Lauderdale/Hollywood International Airport

FXE Fort Lauderdale Executive Airport

HWO North Perry Airport

MIA Miami International Airport

OPF Opa Locka Executive

PMP Pompano Beach Airpark

TMB Miami Executive Airport

X51 Miami Homestead General Aviation Airport

Pre-NPRM Public Input

In 2010, the FAA initiated action to form an Ad Hoc Committee (Committee) to seek input and recommendations from representatives of effected aviation segments for the FAA to consider in designing proposed modifications to the Miami International Airport (MIA), Class B airspace area, and to convert the FLL Class C airspace area to Class B airspace. Participants in the Committee included representatives from the Aircraft Owners and Pilots Association (AOPA), Miami-Dade Aviation Department, Miami-Dade Police Department Aviation Unit, Florida DOT, Broward County Aviation Department, Opa-Locka Helicopters, ADF Airways, Sheltair Aviation, National Jets, Aerial Banners, Delta Connection, Florida Aero Club, and Van Wagner Aerial Media.

Discussion of Ad Hoc Committee Recommendations

The Ad Hoc Committee submitted three recommendations for the FAA to consider in designing proposed modifications of the MIA Class B airspace area, and the proposed conversion of the FLL Class C airspace area to Class B airspace.

The Committee recommended that the FAA align the boundaries of the Class B airspace with prominent geographical features (visual landmarks) whenever possible.

The FAA agrees and tries to adopt the use of geographical features whenever possible. However, areas that overlie the Atlantic Ocean and the Florida Everglades lack prominent landmarks. Currently, there are approximately 25 VFR checkpoints, four VFR waypoints, and five latitude/longitude points depicted on the VFR Flyway Planning Chart in the MIA/FLL area. The FAA is considering additional points to enhance VFR navigation in the area.

The Committee recommended that the FAA establish a VFR Corridor between 3,000 feet and 5,000 feet mean sea level (MSL) that extends from the northern edge of FLL's airspace to the southern edge of MIA's airspace, to permit north-south transition of aircraft. The Committee suggested that this would be similar to the Los Angeles Special Flight Rules Area, which traverses the Los Angeles Class B airspace. Very High Frequency Omnidirectional Range (VOR) radials should be used to define the centerline of the Corridor enabling both VOR and GPS equipped aircraft to navigate the corridor.

The FAA could not adopt this recommendation because a VFR corridor is essentially a “tunnel” through Class B airspace within which aircraft may operate without an ATC Clearance or communication with ATC. For this reason, a VFR Corridor is not feasible for this area based on operational constraints such as traffic volume and traffic flows. MIA arrival traffic descends from 8,000 feet MSL to 3,000 feet MSL in the downwind leg. Departures climb to 5,000 feet MSL initially, and aircraft executing a go-around climb to either 3,000 feet MSL or 4,000 feet MSL. For FLL, arrivals descend from 6,000 feet MSL to 3,000 feet MSL in the downwind leg. Departures climb to 3,000 feet MSL initially, and aircraft executing a go-around climb to 2,000 feet MSL or 3,000 feet MSL. Since aircraft could operate in the corridor without an ATC clearance or communication with ATC, this would present a safety hazard, especially during irregular operations, such as weather impacting the normal arrival and departure routes.

Alternatively, there is a charted VFR Flyway below 3,000 feet MSL, running generally north and south, that is located beneath the western side of the MIA Class B airspace area. Additionally, an east-west oriented Flyway below 2,000 feet MSL is located to the south of Hollywood North Perry airport (HWO), and to the north of Miami-Opa Locka Executive airport (OPF).

The Committee recommended that the FAA develop “shoreline transitions” for VFR aircraft through the Class B airspace. Specifically, this would accommodate pilots who desire to operate over or near the shoreline east of FLL. The Committee added that the FAA should publish information on Sectional and Terminal Area Charts (TAC) to advise aircraft requesting shoreline transitions to contact MIA Approach; including frequencies, designated entry and exit points, expected altitudes, and times requests may be approved.

The FAA reviewed this recommendation and, although shoreline transitions do exist in the Miami area, due to the close proximity of FLL to the shoreline, a shoreline transition is not feasible in that area.

After full consideration of the Committee's discussions and recommendations, the FAA decided to pursue an alternative airspace design for FLL. Rather than converting the Class C airspace area at FLL to Class B airspace, the FAA proposes to retain, but expand, the existing FLL Class C airspace area. This alternative would provide all the benefits that could be achieved with the original FLL Class B concept but with less impact on local VFR and general aviation operations. This NPRM proposes modifications to the FLL Class C airspace area. The proposed modifications of the MIA Class B airspace area was addressed in a separate NPRM. (86 FR 12868, March 5, 2021).

Discussion of Informal Airspace Meeting Comments

As announced in the Federal Register on December 4, 2012, the FAA conducted three informal airspace meetings: January 28, 2013, at the Wings Over Miami Air Museum, Miami, FL; January 29, 2013, at Miami Dade College, Miami, FL; and January 30, 2013, Miramar Town Center, Miramar, FL. (77 FR 71734). Additionally, as announced in the Federal Register on April 1, 2019, the FAA also held one informal airspace meeting on June 12, 2019, at Broward College, Pembroke Pines, FL. (84 FR 12146). These meetings provided interested airspace users with an opportunity to present their views and offer recommendations regarding the planned modification of the FLL Class C airspace area. The FAA received comments from 32 individuals in response to the four meetings. The FAA received a number of comments from the January 2013 meetings that pertained specifically to the proposed modification of the MIA Class B airspace area. Those comments are addressed in a separate NPRM that proposes to modify the MIA Class B airspace. The NPRM was published in the Federal Register on March 5, 2021 (86 FR 12868). You may read the MIA Class B NPRM on the internet at https://www.regulations.gov. Enter the search term FAA-2020-0490.

January 2013 Informal Airspace Meeting Comments

Many commenters asked that the FLL Class C airspace boundaries be based on visual ground references such as highways and landmarks to assist VFR pilots in identifying the lateral boundaries of the area. One commenter wrote that the FAA should consider a physical feature, such as University Avenue, to define the western side of the Class C surface area's 7 NM radius.

The FAA agrees and has incorporated well-known roads such as U.S. Route 27, I-75, Oakland Park Boulevard, etc., into the proposed description of the FLL Class C airspace area. Regarding a reference for the surface area, a suitable pilotage landmark that is already charted is the Snake Creek Canal that runs parallel to Flamingo Road in Broward County. The canal is about 1 to 2 miles outside the western edge of the surface area. Use of that visual landmark would ensure that VFR pilots remain clear of the surface area.

A commenter wrote that, with the expansion of the Class C airspace area, it is important that adequate ATC staffing be provided to handle the higher number of VFR aircraft transitioning the area.

The proposed airspace change would affect the Miami Terminal Radar Approach Control (TRACON) controller workload with an anticipated increase of aircraft requesting flight following services. Miami TRACON provides IFR services to traffic operating to and from FLL. The comment is valid and actions have been taken to address this concern. Considering the anticipated greater workload, the FAA has increased the utilization of additional radar positions that provide relief for controllers working the Opa Locka Executive Airport (OPF)/North Perry Airport (HWO) area. These additional positions split the workload in half (east side and west side) and provide extra capacity to handle flight following services. It is suggested that pilots consider obtaining a discrete transponder code from air traffic control before takeoff to ensure that flight following in VFR conditions can commence shortly after departure.

One commenter suggested that the FAA consider a VFR Corridor within the Class C airspace that takes VFR aircraft from the coast to overhead FLL at 1,500 feet MSL southbound, and 2,000 feet MSL northbound, and back out to the coast.

The procedures for overflights at FLL are governed by a Letter of Agreement (LOA) between MIA ATCT and FLL ATCT. Aircraft operating from the coast to transition over FLL may currently contact FLL ATCT to transition at or below 1,000 feet MSL along the shoreline. Aircraft transitioning VFR over FLL, in communication with MIA TRACON, are provided transition at or above 2,500 feet MSL. The 2,500-foot restriction is intended to allow aircraft on a missed approach climb to 2,000 feet MSL per the LOA. A designated VFR corridor at 1,500 feet MSL or 2,000 feet MSL is not feasible due to traffic volume and the provisions of the LOA.

Several commenters were concerned that the Class C expansion would encroach upon student pilot training in the practice areas, such as alert areas A-291B and A-291C, by reducing the airspace available for training in this congested area. Additionally, a commenter noted that numerous flight schools operate out of FXE. There is concern that the proposed northern boundary of the Class C airspace area could eliminate an avenue for student pilots transitioning to and from the practice areas. The commenter argued that this might cause flight schools to cease operations at FXE.

The current floor of Class C airspace over FXE is at 1,200 feet MSL. The FAA proposes to establish Class C Area F (described below) over FXE. Area F would be bounded in the north along lat. 26°13′53″N (aligned with the eastern portion of Atlantic Boulevard located in Pompano Beach), which lies to the north of FXE. To the south of FXE, the southern boundary of Area F would be defined by lat. 26°10′03″N (aligned with the eastern most portion of Oakland Park Boulevard located in Lauderdale Beach). The floor of Class C airspace in Area F would be 2,500 feet MSL instead of the current 1,200 feet MSL. The change would provide more room for operations to and from FXE without the need for pilots to enter Class C airspace.

A commenter said that traffic flying to and from North Perry Airport (HWO) and Opa Locka Executive Airport (OPF) will be boxed in by the Class C 1,200-foot MSL shelf causing them to fly low when travelling to and from the northern areas. The commenter also stated that access to FXE and Pompano Airpark (PMP) would be greatly decreased by the requirement to fly below 1,200 feet MSL.

Aircraft operating to and from HWO and OPF can still transition below the MIA Class B airspace area below 3,000 feet MSL to join the charted VFR Flyways beneath the MIA Class B and the proposed FLL Class C airspace areas. The 2,500-foot MSL Class C floor in the proposed Area F (discussed above) would enhance access to HWO and PMP. Note that PMP is outside the proposed northern boundary of the Class C airspace area.

Another commenter flying from HWO said that the western most edge of the FLL Class C airspace area should run along U.S. Route 27. According to the commenter, for students flying out over the Everglades, U.S. Route 27 is the last visual reference they could use to tell if they are clear of the Class C airspace and it is safe to climb. Without that reference, according to the commenter, students would have to fly out much farther to ensure they are actually clear of the Class C airspace.

U.S. Route 27 marks the eastern boundary of proposed FLL Class C Area C, which would extend westward to the 25 NM radius of FLL. The floor of Area C would be at 3,000 feet MSL. U.S. Route 27 could still be used as a visual reference to indicate the point beyond which an altitude below 3,000 feet MSL would be clear of the proposed FLL Class C airspace area. Additionally, a canal intersecting a pumping station along Interstate I-75 can be used as a visual landmark for the western most portion of Area C. There is also a major rest area on the highway at that location.

A commenter highlighted another concern about the current Class C configuration involving FXE. The commenter stated that when FXE ATCT issues a right downwind departure off runway 9, the pilot has to rush to get acknowledged by Miami Approach in order to not violate the Class C airspace area. The commenter asked if the north end of the Class C could be sliced off at Oakland Park Boulevard; or, if not, could the floor of the Class C north of Oakland Park Boulevard be raised to 1,600 feet MSL or more.

The FAA determined that the northern boundary of the FLL Class C airspace area could not be set along Oakland Park Boulevard as suggested. Oakland Park Boulevard conflicts with the proposed Class C surface area. The current Class C extends well above Oakland Park Boulevard. Setting the northern boundary of the Class C along Atlantic Boulevard instead provides more vectoring room north of FLL. The proposed Class C modification would establish Area F, with a floor of 2,500 feet MSL, over FXE. This would provide more room that is beneath the Class C airspace to accommodate the downwind departure.

Two commenters raised the issue that setting the Class C airspace floor at 1,200-foot MSL, 14 NM from the airport, as contained in the original proposal, seems unprecedented. The commenter suggested some interim altitude, such as 1,600 feet MSL, would give users more flexibility.

After consideration of the comment, the FAA is modifying the proposal by adding a FLL Class C Subarea E (described below) that would be bounded on the east by Interstate I-75, and on the west by U.S. Route 27. The proposed floor of the Class C airspace in Area E would be 1,500 feet MSL instead of the original 1,200 feet MSL. Aircraft operating at FLL already overfly this area. The objective of this airspace proposal is to provide the least restrictive, yet safe operation in the terminal area.

One commenter contended that ATC never clears aircraft through Class C airspace, except for occasional direct overflights.

FAA records show that, in the 12 months ending May 31, 2017, FLL ATCT worked 313,802 operations with 303 IFR overflights and 16,234 VFR overflights.

A commenter stated that the substantial extensions of Class C airspace east and west of FLL would force pilots to fly deeper into the everglades or farther out to sea to avoid the Class C airspace. The commenter added that, if the changes are implemented, Flyways should be created for both VFR and IFR traffic whose destinations are within the South Florida area.

The FAA acknowledges these concerns. However, considering this extremely busy and congested South Florida airspace that includes intensive student flight training, a high volume of VFR transit operations, as well as large numbers of commercial operations, the proposed FLL Class C airspace modifications are essential to maintaining safety and reducing the risk of midair collisions in the terminal area. A north-south oriented VFR Flyway, below 3,000 feet MSL, is currently depicted on the Miami VFR Flyway Planning Chart (on the reverse side of the Miami Terminal Area Chart). This Flyway is located beneath the western side of the Miami Class B airspace area, and the proposed FLL Class C airspace area. The FAA is also considering additional Flyways though the area.

June 2019 Informal Airspace Meeting Comments

Over 60 people attended the June 2019 informal airspace meeting.

Two commenters expressed concerns that receiving VFR flight following in the area can be challenging due to air traffic controller workload, and that consideration should be given to adequate staffing to provide this additional service routinely. This comment was also received at the January 2013 informal airspace meetings.

The proposed airspace change would affect the Miami Terminal Radar Approach Control (TRACON) controller workload with an anticipated increase of aircraft requesting flight following services. Miami TRACON provides IFR services to traffic operating to and from FLL. The comment is valid and actions have been taken to address this concern. Considering the anticipated greater workload, the FAA has increased the utilization of additional radar positions that provide relief for controllers working the Opa Locka Executive Airport (OPF)/North Perry Airport (HWO) area. These additional positions split the workload in half (east side and west side) and provide extra capacity to handle flight following services. It is suggested that pilots consider obtaining a discrete transponder code from air traffic control before takeoff to ensure that flight following in VFR conditions can commence shortly after departure.

One commenter was concerned that the expansion of the FLL Class C airspace area would create a precedent for other locations.

The purpose of Class C airspace is to reduce the risk of midair collisions in the terminal area. A number of considerations are evaluated before determining whether an airport qualifies for the establishment or modification of a Class C airspace area. Proposed Class C airspace area designs are based on site-specific factors such as traffic volume and complexity.

A commenter suggested a north/south corridor be provided through the FLL Class C airspace area.

Procedures for overflights at FLL are governed by a LOA between Miami Airport Traffic Control Tower (ATCT) and FLL ATCT. Current procedures allow aircraft to transition over FLL at 2,500 feet MSL under two-way radio communication with ATC at Miami TRACON; or at low level over the shoreline after establishing two-way radio communication with FLL ATCT. Both transitions provide protection from aircraft departing/arriving at FLL. Currently, if ATC is unable to approve a transition request, the charted VFR Flyways to the west of FLL are available as an option.

Another commenter said that ATC LOAs should be published for easy access by pilots.

As an initial matter, this comment falls outside the scope of this rulemaking. Moreover, LOAs between ATC facilities outline procedures between facilities to allow for a standard operation, such as interfacility coordination, etc. LOAs do not dictate procedures that pilots who are not operating under ATC instructions need to follow. Because LOAs outline the handling of aircraft and interaction between ATC facilities, they are not made readily available to pilots. Whenever a pilot is uncertain about an ATC clearance or instruction, that pilot must immediately request clarification from ATC.

A commenter stated that expansion of the FLL Class C airspace area should conform to readily recognized landmarks, such as canals, and streets, to describe the boundaries.

The FAA agrees and, where feasible, has amended the proposed FLL Class C airspace area description to use various streets, such as U.S. Route 27, Interstate 75, Oakland Park Boulevard, etc., to define the boundaries.

Four commenters cited concerns that the originally proposed northern boundary of the FLL Class C airspace area, located just south of Pompano Beach Airpark (PMP), with a floor of 1,200 feet MSL, would interfere with Class D airspace operations at FXE and PMP. The commenters requested that the Class C airspace north of FLL be modified to provide a cutout with a higher floor allowing increased clearance for VFR access to Fort Lauderdale Executive Airport (FXE).

Based on previous public comments with the same concern, the FAA raised the proposed floor of the Class C airspace shelf over FXE to 2,500 feet MSL and moved the proposed northern Class C airspace boundary southward to align along the eastern portion of Atlantic Boulevard, located in Pompano Beach. These changes allow VFR aircraft to safely maintain separation from FLL arrival and departure traffic, while maximizing the amount of operational airspace available for pilots operating VFR.

One commenter requested the FAA form a new Ad Hoc Committee to provide updated recommendations regarding the proposed airspace design.

The FAA originated the Ad Hoc Committee concept as a means to get preliminary user input during the initial design phase of Class B and C airspace proposals, prior to the issuance of an NPRM.

The FAA carefully considered the request to form a second Ad Hoc Committee. Although significant time has elapsed since the Committee submitted its report, its recommendations remain valid. After full consideration of the Committee's concerns and recommendations, including the Committee's stated desire that the FAA mitigate the impact to operators outside the Class B airspace area, and improve the design originally presented to the Committee, the FAA re-evaluated the airspace design requirements for the airspace surrounding MIA and FLL. Based on that re-evaluation, the FAA will pursue the alternative to retain, but modify, Class C airspace at FLL, as well as modifying the MIA Class B airspace. This would result in less impact to the VFR and general aviation communities. Further, the public comments received in response to the informal airspace meetings held in 2013 and 2019 led to changes that were incorporated into the proposed airspace designs.

Based on the above, the FAA concluded that sufficient initial feedback was received so that the FAA could develop and publish the airspace proposal in an NPRM. The NPRM's 60-day comment period provides an additional opportunity for the public to submit their views on the proposed FLL Class C airspace modification. Therefore, the FAA has decided against reforming an Ad Hoc Committee for this proposal.

The Proposal

The FAA is proposing an amendment to 14 CFR part 71 to modify the FLL Class C airspace area by expanding the lateral dimensions to the east and west of the airport, and lowering of some airspace floors to enhance safety in the Fort Lauderdale terminal area (see the attached chart).

The current FLL Class C airspace area consists of two concentric circles centered on the airport reference point: (1) That airspace extending upward from the surface to 4,000 feet MSL within a 5 NM radius of the airport; and (2) that airspace extending upward from 1,200 feet MSL to 4,000 feet MSL within a 10 NM radius of the airport. (excluding the airspace within the adjacent Miami Class B airspace area).

This proposal would update the FLL airport reference point coordinates to read “lat. 26°04′18″ N, long. 80°08′59″ W” which reflects the latest information in the Airport Master Records file. In addition, the proposal would reconfigure the Class C airspace area from the two concentric circles design, to a more rectangular shape consisting of seven sub-areas identified by the letters A though G. The foot print of the area would be expanded to the east and west, but the current 4,000-foot MSL ceiling of the Class C airspace area would be retained. The proposed modifications are described below. In developing these modifications, the FAA has considered the input received from the Ad Hoc Committee, and the informal airspace meetings.

Area A. The proposed Area A is a modification of the current surface area that extends from ground level upward to 4,000 feet MSL. Area A would be expanded from the current 5 NM radius of FLL, to a 7 NM radius of the airport. It would be bounded on the north by lat. 26°10′03″N (the eastern most portion of Oakland Park Boulevard located in Lauderdale Beach); and bounded on the south by a 15 NM radius of the Miami International Airport; and on the southeast by lat. 26°00′39″N (the eastern most portion of Hollywood Boulevard located in Hollywood).

Setting the northern boundary of Area A along lat. 26°10′03″N would allow Fort Lauderdale Executive Airport (FXE) to continue using south downwind departures from the airport and return most of the FXE Class D airspace area altitudes to FXE ATCT for their use. The proposed southeastern boundary of Area A would allow aircraft departing North Perry Airport (HWO) and Opa Locka Executive Airport (OPF) more room to transition to the east overwater.

Area B. Area B, located west of Area A, would extend upward from 1,200 feet MSL to 4,000 feet MSL. It would be bounded on the north by lat. 26°10′03″N; on the west by State Road 869/Sawgrass Expressway, Interstate 595 and Interstate 75; on the south by the 15 NM radius of Miami International Airport; and on the east by the 7 NM radius of FLL (the western boundary of Area A). The use of existing major roadways would give VFR pilots better awareness of the airspace boundaries.

Area C. Area C would be located at the western end of the Class C expansion. It would extend upward from 3,000 feet MSL to 4,000 feet MSL. Area C would be bounded on the north by lat. 26°13′53″N (aligned with the eastern portion of Atlantic Boulevard located in Pompano Beach) (which is also the proposed northern boundary of FLL Class C airspace area); on the west by the 25 NM radius of FLL; on the south by lat. 25°57′48″N; on the southeast by the 15 NM radius of MIA; and on the east by U.S. Route 27. Route 27 was selected as the eastern boundary based on suggestions that visual references be used to provide better situational awareness for VFR pilots.

Area D. Area D would be located at the eastern end of the Class C expansion. It would extend upward from 3,000 feet MSL to 4,000 feet MSL. It would be bounded on the north by lat. 26°13′53″N (aligned with the eastern portion of Atlantic Boulevard located in Pompano Beach); on the east by the 25 NM radius of FLL; on the south by lat. 26°00′39″N (the eastern most portion of Hollywood Boulevard located in Hollywood); and on the west by the 20 NM radius of FLL. Area D would form the eastern most section of the proposed FLL Class C airspace area. In the original design, the Class C floor in Area D was proposed to be 2,500 feet MSL. To accommodate concerns, the proposed floor is raised to 3,000 feet MSL to give VFR pilots a little more room to transition beneath the area.

Area E. Area E would extend upward from 1,500 feet MSL to 4,000 feet MSL. It would be bounded on the north by lat. 26°10′03″N (the eastern most portion of Oakland Park Boulevard located in Lauderdale Beach); on the east by the north-south portion of Interstate I-75 and State Road 869/Sawgrass Expressway; on the south by the 15 NM radius of MIA; and on the west by U.S. Route 27. Area E would be located between Areas B and C.

A goal of the design of Area E is to resolve an issue caused by the configurations of the current MIA Class B airspace and the FLL Class C airspace areas. A gap, approximately 4-5 NM wide, exists in the airspace between the current 10 NM radius of FLL's Class C airspace (to the west of the airport), and the existing MIA Class B airspace area to the northwest of MIA (in the vicinity of U.S. Route 27). VFR aircraft that are not in communication with ATC frequently transit this gap and are climbing or descending through the final approach courses and the downwind legs for FLL arrivals to runways 10L/10R. The proposed design of Area E is intended to close this gap to enhance safety for both FLL traffic and the transiting VFR aircraft. The original proposal set the Class C airspace floor in this area at 1,200 feet MSL. Due to concerns about restricting VFR aircraft transiting the area, the proposed Area E floor is raised to 1,500 feet MSL to give VFR aircraft more room to transition north and south. The use of existing major roadways to mark the boundaries gives VFR pilots better situational awareness of the lateral confines of Area E.

Area F. Area F would extend upward from 2,500 feet MSL to 4,000 feet MSL. The area's boundaries would begin at a point northwest of FLL where U.S. Route 27 intersects lat. 26°13′53″N (aligned with the eastern portion of Atlantic Boulevard in Pompano Beach); thence moving east along lat. 26°13′53″N to a point that intersects the 20 NM radius of FLL; thence moving clockwise along the 20 NM radius of FLL to a point that intersects lat. 26°00′39″N; (the eastern most portion of Hollywood Boulevard located in Hollywood); thence moving west along lat. 26°00′39″N to a point that intersects the 15 NM radius of FLL; thence moving counter-clockwise along the 15 NM radius of FLL to a point that intersects lat. 26°10′03″N (the eastern most portion of Oakland Park Boulevard located in Lauderdale Beach); thence moving west along lat. 26°10′03″N to a point that intersects U.S. route 27; thence moving north along U.S. Route 27 to the point of beginning. Area F forms the northern shelf of the FLL Class C airspace area, running east and west between areas C and D, as well as a north/south segment running between Areas G and D.

With today's FLL Class C airspace configuration, the floor of Class C airspace over FXE is 1,200 feet MSL. This 1,200-foot floor extends right up to PMP. Within the proposed Area F, the Class C airspace floor would be raised to 2,500 feet MSL over FXE, and the northern boundary of Class C airspace would be moved farther to the south of PMP and aligned with the eastern portion of Atlantic Boulevard. This proposed 2,500-foot MSL Class C airspace shelf over FXE, and southward relocation of the northern Class C airspace boundary to be aligned with Atlantic Boulevard, provides a number of benefits, including: The use of visual references for airspace boundaries; better access for VFR pilots to the FXE and PMP areas; additional room below Class C airspace to accommodate downwind departures from FXE; better access for the flight schools based at FXE and PMP to airspace that is regularly used for flight training; and providing FXE and PMP ATCTs access to more altitudes within their Class D airspace areas.

Area G. Area G would extend upward from 1,200 feet MSL to 4,000 feet MSL. The area boundaries would begin at a point northeast of FLL where the 7 NM radius of FLL intersects lat. 26°10′03″N (the eastern most portion of Oakland Park Boulevard located in Lauderdale beach); thence moving clockwise along the 7 NM radius of FLL to a point that intersects lat. 26°00′39″N (the eastern most portion of Hollywood Boulevard located in Hollywood); thence moving east along lat. 26°00′39″N to a point that intersects the 15 NM radius of FLL; thence moving counterclockwise along the 15 NM radius of FLL to a point that intersects lat. 26°10′03″N; thence moving west along lat. 26°10′03″N, to the point of beginning. Area G would be located between Areas A and F.

In addition, this action proposes to remove the Class E airspace extension to the FLL Class C airspace surface area (which would become Class C within Area A). The proposed expansion of Area A from the current 5 NM radius, to a 7 NM radius, would overlie the Class E airspace extension rendering it unnecessary.

Class C airspace areas are published in paragraph 4000 of FAA Order 7400.11E, dated July 21, 2020 and effective September 15, 2002, which is incorporated by reference in 14 CFR 71.1. Class E airspace areas designated as an extension to a Class C surface area are published in paragraph 6003 of FAA Order 7400.11E. The Class C airspace area and Class E airspace extension modifications proposed in this document would be published subsequently in the Order.

Paperwork Reduction Act

The Paperwork Reduction Act of 1995 (44 U.S.C. 3507(d)) requires that the FAA consider the impact of paperwork and other information collection burdens imposed on the public. The FAA has determined that there is no new information collection requirement associated with this proposed rule.

Regulatory Notices and Analyses

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

In conducting these analyses, the FAA has determined that this proposed rule: (1) Is expected to have a minimal cost impact, (2) is not an economically “significant regulatory action” as defined in section 3(f) of Executive Order 12866, (3) is not significant under DOT's administrative procedure rule on rulemaking at 49 CFR 5.13; (4) not have a significant economic impact on a substantial number of small entities; (5) does not create unnecessary obstacles to the foreign commerce of the United States; and (6) does not impose an unfunded mandate on state, local, or tribal governments, or on the private sector by exceeding the threshold identified above. These analyses are summarized below.

As discussed above, the FAA determined that changes put forth in this proposed rule would increase airspace safety and efficiency. The proposed rule would reconfigure and expand the FLL Class C airspace. Despite significant increases in aircraft operations and passenger enplanements over the years, the FLL Class C airspace has not been modified since its inception in 1986. The current Class C airspace area is not sufficient to accommodate the volume of aircraft operations in the congested South Florida airspace, nor the traffic pattern required by the increasing numbers of turbojet operations at FLL. The goals of the proposal are to reduce the risk of midair collisions and increase efficiency of air traffic operations in the FLL terminals.

The proposed expansion to Class C airspace would affect the VFR and general aviation community. VFR operators would only need to make minor adjustments to accommodate the expansion. As mentioned above, the FAA considered recommendations from an Ad Hoc Committee as well as the four informal airspace meetings from the stakeholders on the planned modifications to the FLL airspace. The feedback resulted in changes to the airspace design with the intent of maintaining safety and minimizing the impact to operators using the surrounding airspace. Additionally, VFR operators can also use the current north-south charted VFR flyway below the 3,000-foot Class B floor to the west of MIA, which enables pilots to fly beneath the Class B, and east-west flyway below 2000 MSL located to the south of HWO, or to the north of Miami OPF. Therefore, the FAA expects the Class B modifications in this proposal would result in minimal cost to VFR operators. The FAA requests comments on the benefits and costs of this proposal to inform the final rule.

The discussion presented in this section reflects conditions that predate the public health emergency concerning the novel coronavirus disease (COVID-19) in 2020. At the time of writing, there is uncertainty surrounding the timing of recovery and the long-term effects from the public health emergency. To the extent that there are lingering or lasting changes to general aviation and air carrier operations, the benefits and costs of the FLL Class C airspace modification in this proposal may vary relative to the level of future operations.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination, and the reasoning should be clear.

The proposed rule would modify Class C airspace around FLL. The change would affect general aviation operators using the airspace at or near FLL. Operators flying VFR would need to adjust their flight paths to avoid the modified Class C airspace. However, the modifications to Class C airspace are intended to be the least restrictive option while enhancing safety. Additionally, VFR operators can also use the current north-south charted VFR flyway below the 3,000-foot Class B floor to the west of MIA, which enables pilots to fly beneath the Class B, and east-west flyway below 2000 MSL located to the south of HWO, or to the north of Miami OPF. VFR pilots have the option to contact ATC at Miami TRACON or FLL ATCT, and request flight following, if desired. Therefore, as provided in section 605(b), the head of the FAA certifies that this rulemaking would not result in a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards. The FAA has assessed the potential effect of this proposed rule and determined that it would improve safety and is consistent with the Trade Agreements Act.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $155 million in $100 million. This proposed rule does not contain such a mandate; therefore, the requirements of Title II of the Act do not apply.

ICAO Considerations

As part of this proposal relates to navigable airspace outside the United States, this notice is submitted in accordance with the International Civil Aviation Organization (ICAO) International Standards and Recommended Practices.

The application of International Standards and Recommended Practices by the Air Traffic Service, FAA, in areas outside the United States domestic airspace, is governed by the Convention on International Civil Aviation. Specifically, the FAA is governed by Article 12 and Annex 11, which pertain to the establishment of necessary air navigational facilities and services to promote the safe, orderly, and expeditious flow of civil air traffic. The purpose of Article 12 and Annex 11 is to ensure that civil aircraft operations on international air routes are performed under uniform conditions.

The International Standards and Recommended Practices in Annex 11 apply to airspace under the jurisdiction of a contracting state, derived from ICAO. Annex 11 provisions apply when air traffic services are provided and a contracting state accepts the responsibility of providing air traffic services over high seas or in airspace of undetermined sovereignty. A contracting state accepting this responsibility may apply the International Standards and Recommended Practices that are consistent with standards and practices utilized in its domestic jurisdiction.

In accordance with Article 3 of the Convention, state-owned aircraft are exempt from the Standards and Recommended Practices of Annex 11. The United States is a contracting state to the Convention. Article 3(d) of the Convention provides that participating state aircraft will be operated in international airspace with due regard for the safety of civil aircraft. Since this proposal involves, in part, the designation of navigable airspace outside the United States, the Administrator consulted with the Secretary of State and the Secretary of Defense in accordance with the provisions of Executive Order 10854.

The Department of State responded with no objection to the proposed expansion of the Miami Class B and Fort Lauderdale Class C airspace areas. The Department of Defense Policy Board on Federal Aviation (PBFA) concurred with comment on the proposal stating the following: “We would like to document our concerns that extending these areas into international airspace places additional restrictions and equipage requirements on aircraft who normally transit this airspace. Additionally we believe such ATC expansions could set a precedent and encourage/allow foreign nations to exert more restrictive control measures in other international airspaces with no limits to the lateral confines, all in the name of commerce and safety.”

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of the Federal Aviation Administration Order 7400.11E, Airspace Designations and Reporting Points, dated July 21, 2020, and effective September 15, 2020, is amended as follows:

Paragraph 4000—Subpart C—Class C Airspace

* * * * *

ASO FL C Fort Lauderdale-Hollywood International Airport, FL

Fort Lauderdale-Hollywood International Airport, FL

(Lat. 26°04′18″N, long. 80°08′59″W)

Boundaries

Area A. That airspace extending upward from the surface to and including 4,000 feet MSL within a 7 nautical mile radius of Fort Lauderdale-Hollywood International Airport, excluding the airspace North of lat. 26°10′03″ N (the eastern most portion of Oakland Park Boulevard located in Lauderdale Beach), and bounded on the south by a 15 nautical mile radius of Miami International Airport, and on the southeast by lat. 26°00′39″ N (the eastern most portion of Hollywood Boulevard located in Hollywood).

Area B. That airspace extending upward from 1,200 feet MSL to and including 4,000 feet MSL beginning at a point northwest of Fort Lauderdale-Hollywood International Airport at the intersection of a 7 nautical mile radius of Fort Lauderdale-Hollywood International Airport and lat. 26°10′03″ N, thence moving west along lat. 26°10′03″ N (the eastern most portion of Oakland Park Boulevard located in Lauderdale Beach), to a point that intersects State Road 869/Sawgrass Expressway, thence moving south along State Road 869/Sawgrass Expressway, [continuing south across the intersection of State Road 869/Sawgrass Expressway, Interstate 595, and Interstate 75], and continuing south along Interstate 75 to a point that intersects a 15 nautical mile radius of Miami International Airport, thence moving clockwise along the 15 nautical mile radius to a point that intersects the 7 nautical mile radius of Fort Lauderdale-Hollywood International Airport, thence moving clockwise along the 7 nautical mile radius to the point of beginning.

Area C. That airspace extending upward from 3,000 feet MSL to and including 4,000 feet MSL within an area bounded on the north by lat. 26°13′53″ N (aligned with the eastern portion of Atlantic Boulevard located in Pompano Beach), on the west by a 25 nautical mile radius of Fort Lauderdale-Hollywood International Airport, on the South by lat. 25°57′48″ N, on the southeast by a 15 nautical mile radius of Miami International Airport, and on the east by US Route 27.

Area D. That airspace extending upward from 3,000 feet MSL to and including 4,000 feet MSL within an area bounded on the north by lat. 26°13′53″ N (aligned with the eastern portion of Atlantic Boulevard located in Pompano Beach), on the east by a 25 nautical mile radius of Fort Lauderdale-Hollywood International Airport, on the south by lat. 26°00′39″ N (the eastern most portion of Hollywood Boulevard located in Hollywood), and on the west by a 20 nautical mile radius of Fort Lauderdale-Hollywood International Airport.

Area E. That airspace extending upward from 1,500 feet MSL to and including 4,000 feet MSL within an area bounded on the north by lat. 26°10′03″ N (the eastern most portion of Oakland Park Boulevard located in Lauderdale Beach), on the east by the north-south portion of Interstate 75 and State Road 869/Sawgrass Expressway, on the south by a 15 nautical mile radius of Miami International Airport, and on the west by US Route 27.

Area F. That airspace extending upward from 2,500 feet MSL to and including 4,000 feet MSL beginning northwest of Fort Lauderdale-Hollywood International Airport at a point that intersects US Route 27 and lat. 26°13′53″ N (aligned with the eastern portion of Atlantic Boulevard located in Pompano Beach), thence moving east along lat. 26°13′53″ N to a point that intersects a 20 nautical mile radius of Fort Lauderdale-Hollywood International Airport, thence moving clockwise along the 20 nautical mile radius to a point that intersects lat. 26°00′39″ N (the eastern most portion of Hollywood Boulevard located in Hollywood), thence moving west to a point that intersects a 15 nautical mile radius of Fort Lauderdale-Hollywood International Airport, thence moving counter-clockwise along the 15 nautical mile radius to a point that intersects lat. 26°10′03″ N (the eastern most portion of Oakland Park Boulevard located in Lauderdale Beach), thence moving west along lat. 26°10′03″ N to a point that intersects US Route 27, thence moving north along US Route 27 to the point of beginning.

Area G. That airspace extending upward from 1,200 feet MSL to and including 4,000 feet MSL beginning northeast of Fort Lauderdale-Hollywood International Airport at a point that intersects a 7 nautical mile radius of Fort Lauderdale-Hollywood International Airport and lat. 26°10′03″ N (the eastern most portion of Oakland Park Boulevard located in Lauderdale Beach), thence moving clockwise along the 7 nautical mile radius to a point that intersects lat. 26°00′39″ N (the eastern most portion of Hollywood Boulevard located in Hollywood), thence moving east along lat. 26°00′39″ N to a point that intersects a 15 nautical mile radius of Fort Lauderdale-Hollywood International Airport, thence moving counter-clockwise along the 15 nautical mile radius to a point that intersects lat. 26°10′03″ N, thence moving west along lat. 26°10′03″ N to the point of beginning.

Paragraph 6003—Subpart E—Class E Airspace Areas Designated as an Extension to a Class C Surface Area.

ASO FL E3 Fort Lauderdale, FL [Remove]

Issued in Washington, DC, on March 29, 2021.
George Gonzales,
Acting Manager, Rules and Regulations Group.

[FR Doc. 2021-06805 Filed 4-1-21; 8:45 am]

BILLING CODE 4910-13-P